NATIONAL AERONAUTICS AND SPACE ADMINSTRATION

[Notice (05-005)]

NASA Solar System Exploration Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Solar System Exploration Strategic Roadmap Committee.

DATES: Thursday, February 3, 2005, 8 a.m. to 5 p.m., Friday, February 4, 2005, 8 a.m. to 5 p.m., Pacific Standard Time.

ADDRESSES: NASA Ames Conference Center, Bldg 3, 500 Severyns Road, Moffett Field, CA 94035-1000.

FOR FURTHER INFORMATION CONTACT: Ms. Rho Christensen at (650) 604-2476.

SUPPLEMENTARY INFORMATION: The meeting will be open to the public up to the seating capacity of the meeting room. Attendees will be requested to sign a register.

The agenda for the meeting is as follows:

—Introductory remarks and team logistics.

—Strategic Roadmap and Integration Overview.

—Review of prior Solar System roadmaps and strategies: NRC survey report, 2003 Strategic Roadmap, Solar System Exploration White Paper.

—Strategic Process: Pathways/Options/Decision Points/Interdependencies.

—Plan for completing the new Strategic Roadmap.

It is imperative that the meeting be held on this date to accommodate the scheduling priorities of the key participants.

P. Diane Rausch,
Advisory Committee Management Officer, National Aeronautics and Space Administration.

[FR Doc. 05-953 Filed 1-14-05; 8:45 am]

BILLING CODE 7510-13-P